DEPARTMENT OF TRANSPORTATION

Federal Aviation Administration

14 CFR Part 33

[Docket No. FAA-2006-25376; Notice No. 06-10]

RIN 2120-AI74

Airworthiness Standards: Safety Analysis

AGENCY: Federal Aviation Administration (FAA), DOT.

ACTION: Notice of proposed rulemaking (NPRM).

SUMMARY: The FAA is proposing to amend the safety analysis type certification standard for turbine aircraft engines. This proposal harmonizes the FAA's type certification standard for safety analysis with the corresponding standards of the Joint Aviation Authorities (JAA) and the European Aviation Safety Agency (EASA). The proposed rule would establish a nearly uniform safety analysis standard for turbine aircraft engines certified in the United States under Part 33 of Title 14 of the Code of Federal Regulations (14 CFR part 33) and in European countries under Joint Aviation Requirements-Engines (JAR-E) and Certification Specifications-Engines (CS-E), thereby simplifying airworthiness approvals for import and export.

DATES: Send your comments on or before October 16, 2006.

ADDRESSES: You may send comments, identified by Docket No. FAA-2006-25376, using any of the following methods:

• DOT Docket Web site: Got to http://dms.dot.gov and follow the instructions for sending your comments electronically.

• Government-wide rulemaking Web site: Go to http://www.regulations.gov and follow the instructions for sending your comments electronically.

• Mail: Docket Management Facility; U.S. Department of Transportation, 400 Seventh Street, SW., Nassif Building, Room PL-401, Washington, DC 20590-0001.

• Fax: 1-202-493-2251.

• Hand Delivery: Room PL-401 on the plaza level of the Nassif Building, 400 Seventh Street, SW., Washington, DC, between 9 a.m. and 5 p.m., Monday through Friday, except Federal Holidays.

For more information on the rulemaking process, see the SUPPLEMENTARY INFORMATION section of this document.

Privacy: We will post all comments we receive, without change, to http://dms.dot.gov, including any personal information that you provide. For more information, see the Privacy Act discussion in the SUPPLEMENTARY INFORMATION section of this document.

Docket: To read background documents or comments received, go to http://dms.dot.gov at any time or to Room PL-401 on the plaza level of the Nassif Building, 400 Seventh Street, SW., Washington, DC, between 9 a.m. and 5 p.m., Monday through Friday, except Federal holidays.

FOR FURTHER INFORMATION CONTACT: Ann Azevedo, Chief Scientist & Technical Advisor, Safety Analysis, ANE-104, Engine and Propeller Directorate, Aircraft Certification Service, FAA, New England Region, 12 New England Executive Park, Burlington, Massachusetts 01803-5299; telephone: (781) 238-7117; facsimile: (781) 238-7199; e-mail: ann.azevedo@faa.gov.

SUPPLEMENTARY INFORMATION:

Comments Invited

The FAA invites interested persons to participate in this rulemaking by submitting written comments, data, or views. We also invite comments relating to the economic, environmental, energy, or federalism impacts that might result from adopting the proposals in this document. The most helpful comments reference a specific portion of the proposal, explain the reason for any recommended change, and include supporting data. We ask that you send us two copies of written comments.

We will file in the docket all comments we receive, as well as a report summarizing each substantive public contact with FAA personnel concerning this proposed rulemaking. The docket is available for public inspection before and after the comment closing date. If you wish to review the docket in person, go to the address in the ADDRESSES section of this preamble between 9 a.m. and 5 p.m., Monday through Friday, except Federal holidays. You may also review the docket using the Internet at the Web address in the ADDRESSES section.

Privacy Act: Using the search function of our docket Web site, anyone can find and read the comments received into any of our dockets, including the name of the individual sending the comment (or signing the comment on behalf of an association, business, labor union, etc.). You may review DOT's complete Privacy Act Statement in the Federal Register published on April 11, 2000 (65 FR 19477-78) or you may visit http://dms.dot.gov.

Before acting on this proposal, we will consider all comments we receive on or before the closing date for comments. We will consider comments filed late if it is possible to do so without incurring expense or delay. We may change this proposal in light of the comments we receive.

If you want the FAA to acknowledge receipt of your comments on this proposal, include with your comments a pre-addressed, stamped postcard on which the docket number appears. We will stamp the date on the postcard and mail it to you.

Availability of Rulemaking Documents

You can get an electronic copy using the Internet by:

(1) Searching the Department of Transportation's electronic Docket Management System (DMS) Web page (http://dms.dot.gov/search);

(2) Visiting the FAA's Regulations and Policies Web page at http://www.faa.gov/regulations_policies/; or

(3) Accessing the Government Printing Office's Web page at http://www.access.gpo.gov/su_docs/aces/aces140.html.

You can also get a copy by sending a request to the Federal Aviation Administration, Office of Rulemaking, ARM-1, 800 Independence Avenue SW., Washington, DC 20591, or by calling (202) 267-9680. Make sure to identify the docket number, notice number, or amendment number of this rulemaking.

Background

We are proposing to amend the safety analysis type certification standard for turbine aircraft engines. This proposal harmonizes the FAA's type certification standard on this issue with corresponding standards of the JAA and EASA. The proposed changes, if adopted, would establish a nearly uniform safety analysis standard for turbine aircraft engines certified in the United States under part 33 and in European countries under JAR-E and CS-E, thereby simplifying airworthiness approvals for import and export.

Aviation Rulemaking Advisory Committee (ARAC)

The FAA is committed to the harmonization of part 33 with JAR-E and CS-E. In August 1989, as a result of that commitment, the FAA Engine and Propeller Directorate participated in a meeting with the JAA, the Aerospace Industries Association (AIA), and the European Association of Aerospace Industries (AECMA). The purpose of the meeting was to establish a philosophy, guidelines, and a working relationship regarding the resolution of issues identified as needing harmonization, including the identification of the need for new standards. The safety and failure analysis standards were identified as a Significant Regulatory Difference in need of harmonization. All parties agreed to work in a partnership to jointly address the harmonization effort. This partnership was later expanded to include Transport Canada, the airworthiness authority of Canada.

The FAA established the ARAC to provide advice and recommendations to the FAA on the full range of its rulemaking activities with respect to aviation-related issues. This includes obtaining advice and recommendations on the FAA's commitment to harmonize its Federal Aviation Regulations and practices with its trading partners in Europe and Canada.

In a notice published on October 20, 1998 (63 FR 56059), the FAA asked ARAC, Transport Airplane and Engine Issues Group (TAEIG), to provide advice and recommendations on safety and failure analysis standards. This proposed rule and associated advisory material is based on recommendations resulting from that task.

The Safety Analysis Standard

The ultimate objective of the safety analysis standard is to ensure that the collective risk from all engine failure conditions is acceptably low. An acceptable total engine design risk is achieved by managing the individual risks to acceptable levels. This concept emphasizes reducing the risk of an event proportionally with the severity of the hazard it represents.

Aircraft-level requirements for individual failure conditions may be more severe than the engine-level requirements. Early coordination between the engine manufacturer, the aircraft manufacturer, and the appropriate FAA certification offices, will provide assurance that the engine will be eligible for installation in the aircraft. Early coordination will also ensure that the engine applicant is aware of any additional and possibly more restrictive aircraft standards that will apply to the engine in the installed condition.

Differences Between Part 33 and JAR-E Earlier Requirements

The following comparisons show differences between part 33 and the JAR-E as they existed before the requirements were harmonized. JAA subsequently revised the JAR-E on May 1, 2003, as a result of harmonization discussions with the FAA. EASA incorporated the harmonized rule into its certification standards as CS-E 510.

JAR-E 510 failure analysis | Existing section 33.75 safety analysis
Required a summary listing of all failures that result in major or hazardous effects, along with an estimate of the probability of occurrence of these major and hazardous effects | Requires an assessment that any probable malfunction, failure, or improper operation will not lead to four specific hazards of undefined severity.
Required a list of assumptions contained within the failure analysis and the substantiation of those assumptions | [Most of the assumptions are covered by other paragraphs in part 33].
Referenced the specific hazard of toxic bleed air. | [This hazard is not mentioned in § 33.75].
Required analysis to examine malfunctions and single and multiple failures | Requires analysis to examine malfunctions and single and multiple failures and examination of improper operation.

Outcome of Harmonization Effort

This proposed harmonized standard uses the framework of the current JAR-E 510/CS-E 510, while including specific hazards as in the current § 33.75.

Section-by-Section Discussion of the Proposals

Under § 33.5, we propose a new paragraph (c) to reflect the new requirement for the safety analysis assumptions to be included in the engine's installation and operation manual.

We propose to revise § 33.74 to reflect the new organization of the revised § 33.75, including the addition of new specific conditions to be evaluated.

We propose to rewrite § 33.75 using the format of the current JAA/EASA equivalent rule to reflect the harmonization effort.

We propose to revise § 33.76 to reference the specific engine conditions listed as hazardous effects within the proposed § 33.75.

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce, including minimum safety standards for aircraft engines. This proposed rule is within the scope of that authority because it updates the existing regulations for safety analysis type certification standard for turbine aircraft engines.

Paperwork Reduction Act

The Paperwork Reduction Act of 1995 (44 U.S.C. 3507(d)) requires that the FAA consider the impact of paperwork and other information collection burdens imposed on the public. We determined that there are no new information collection requirements associated with this proposed rule.

International Compatibility

In keeping with U.S. obligations under the Convention on International Civil Aviation, it is FAA policy to comply with International Civil Aviation Organization (ICAO) Standards and Recommended Practices to the maximum extent practicable. The FAA has reviewed the ICAO Standards and Recommended Practices and identified no differences with these proposed regulations.

Initial Economic Evaluation, Initial Regulatory Flexibility Determination, Trade Impact Assessment, and Unfunded Mandates Assessment

Changes to Federal regulations must undergo several economic analyses. First, Executive Order 12866 directs that each Federal agency shall propose or adopt a regulation only upon a reasoned determination that the benefits of the intended regulation justify its costs. Second, the Regulatory Flexibility Act of 1980 (Pub. L. 96-354) requires agencies to analyze the economic impact of regulatory changes on small entities. Third, the Trade Agreements Act (Pub. L. 96-39) prohibits agencies from setting standards that create unnecessary obstacles to the foreign commerce of the United States. In developing U.S. standards, this Trade Act requires agencies to consider international standards and, where appropriate, that they be the basis of U.S. standards. Fourth, the Unfunded Mandates Reform Act of 1995 (Pub. L. 104-4) requires agencies to prepare a written assessment of the costs, benefits, and other effects of proposed or final rules that include a Federal mandate likely to result in the expenditure by State, local, or tribal governments, in the aggregate, or by the private sector, of $100 million or more annually (adjusted for inflation with base year of 1995). This portion of the preamble summarizes the FAA's analysis of the economic impacts of this proposed rule. We suggest readers seeking greater detail read the full regulatory evaluation, a copy of which we have placed in the docket for this rulemaking.

In conducting these analyses, FAA has determined that this proposed rule: (1) Has benefits that justify its costs, (2) is not an economically “significant regulatory action” as defined in section 3(f) of Executive Order 12866, (3) is not “significant” as defined in DOT's Regulatory Policies and Procedures; (4) would not have a significant economic impact on a substantial number of small entities; (5) would not create unnecessary obstacles to the foreign commerce of the United States; and (6) would not impose an unfunded mandate on state, local, or tribal governments, or on the private sector by exceeding the threshold identified above. These analyses are summarized below.

Total Benefits and Costs of This Rulemaking

The FAA estimates that over the next ten years, the total quantitative benefits from implementing this proposed rule are roughly $0.5 million ($0.4 million present value). In contrast to these potential benefits, the estimated cost of compliance is approximately $0.3 million ($0.2 million discounted).

Accordingly, the proposed rule is cost-beneficial due to the overall reduction in compliance cost while maintaining the same level of safety.

Who Is Potentially Affected by This Rulemaking

Part 33 Engine Manufacturers.

Assumptions and Sources of Information

Period of analysis—2006 through 2016.

Discount rate—7%.

Compensation Rates, Economic Values for FAA Investment and Regulatory Decisions, A Guide, May 2005.

Benefits of This Rule

We evaluate benefits from adopting European certification requirements (often referred to as harmonization) and express them as cost savings. The cost savings are the result of the number of hours saved simplifying the certification process while maintaining the same level of safety.

The total benefits of this proposal are $0.5 million ($0.4 million present value). The benefits are for new type certificates $59,360 ($43,102 present value), and benefits for amended type certificates of $426,362 ($309,585 present value).

Costs of This Rule

One part 33 turbine engine manufacturer informed the FAA that it would incur certification costs because of this proposed rule. This proposed rule would require an additional 1,000 engineering hours for certification of one new engine every two years. The estimated total bi-annual cost of $54,210 equals 1,000 hours multiplied by the hourly compensation rate of $54.21.¹ The total cost over a ten-year period is $271,050 ($196,812 present value).

¹ Economic Values for FAA Investment and Regulatory Decisions, A Guide, December 2004. Table 7-1 lists the total compensation for Aircraft Manufacturing (white collar occupation) as $49.04. To express 2003 dollars in 2006 dollars we use the estimated average GDP annual percent change of 3.4%.

Industry representatives for remaining firms informed the FAA that their firms currently meet both the FAA and the European requirements. Because these firms currently meet both sets of requirements, no extra tests would be required because of the proposed rule.

Initial Regulatory Flexibility Determination

The Regulatory Flexibility Act of 1980 (Pub. L. 96-354) (RFA) establishes “as a principle of regulatory issuance that agencies shall endeavor, consistent with the objectives of the rule and of applicable statutes, to fit regulatory and informational requirements to the scale of the businesses, organizations, and governmental jurisdictions subject to regulation. To achieve this principle, agencies are required to solicit and consider flexible regulatory proposals and to explain the rationale for their actions to assure that such proposals are given serious consideration.” The RFA covers a wide-range of small entities, including small businesses, not-for-profit organizations, and small governmental jurisdictions.

Agencies must perform a review to determine whether a rule will have a significant economic impact on a substantial number of small entities. If the agency determines that it will, the agency must prepare a regulatory flexibility analysis as described in the RFA.

However, if an agency determines that a rule is not expected to have a significant economic impact on a substantial number of small entities, section 605(b) of the RFA provides the head of the agency may so certify and a regulatory flexibility analysis is not required. The certification must include a statement providing the factual basis for this determination, and the reasoning should be clear.

In our small entity classification, the FAA uses the size standards from the Small Business Administration. Only one manufacturer would incur costs because of this proposed rule. Because this manufacturer employs more than 1,500 employees, it is not considered a small entity. The remaining part 33 engine manufacturers would not incur costs associated with this proposed rule. These manufacturers would in fact realize a prorated portion of the cost saving resulting from a single harmonized certification procedure.

Consequently, the FAA certifies the rule will not have a significant economic impact on a substantial number of small entities. The FAA solicits comments regarding this determination.

International Trade Impact Assessment

The Trade Agreements Act of 1979 (Pub. L. 96-39) prohibits Federal agencies from establishing any standards or engaging in related activities that create unnecessary obstacles to the foreign commerce of the United States. Legitimate domestic objectives, such as safety, are not considered unnecessary obstacles. The statute also requires consideration of international standards and, where appropriate, that they be the basis for U.S. standards. This proposed rule considers and incorporates an international standard as the basis of a FAA regulation. Thus the proposed rule complies with the Trade Agreements Act of 1979 and does not create unnecessary obstacles to international trade.

Unfunded Mandates Assessment

Title II of the Unfunded Mandates Reform Act of 1995 (Pub. L. 104-4) requires each Federal agency to prepare a written statement assessing the effects of any Federal mandate in a proposed or final agency rule that may result in an expenditure of $100 million or more (adjusted annually for inflation with the base year 1995) in any one year by State, local, and tribal governments, in the aggregate, or by the private sector; such a mandate is deemed to be a “significant regulatory action.” The FAA currently uses an inflation-adjusted value of $128.1 million in lieu of $100 million. This proposed rule does not contain such a mandate. The requirements of Title II do not apply.

Executive Order 13132, Federalism

The FAA analyzed this proposed rule under the principles and criteria of Executive Order 13132, Federalism. We determined that this action would not have a substantial direct effect on the States, on the relationship between the national Government and the States, or on the distribution of power and responsibilities among the various levels of government, and therefore, would not have federalism implications.

Environmental Analysis

FAA Order 1050.1E defines FAA actions that may be categorically excluded from preparation of a National Environmental Policy Act environmental impact statement in the absence of extraordinary circumstances. We determined that this proposed rule qualifies for the categorical exclusion identified in Chapter 3, paragraph 312d, and involves no extraordinary circumstances.

Regulations that Significantly Affect Energy Supply, Distribution, or Use

We analyzed this NPRM under Executive Order 13211, Actions Concerning Regulations that Significantly Affect Energy Supply, Distribution, or Use (May 18, 2001). We determined that it is not a “significant energy action” under the executive order because it is not a “significant regulatory action” under Executive Order 12866, and it is not likely to have a significant adverse effect on the supply, distribution, or use of energy.

List of Subjects in 14 CFR Part 33

Air transportation, Aircraft, Aviation safety, Safety.

The Proposed Amendment

In consideration of the foregoing, the Federal Aviation Administration proposes to amend part 33 of Title 14 Code of Federal Regulations (14 CFR part 33) as follows:

PART 33—AIRWORTHINESS STANDARDS: AIRCRAFT ENGINES

1. The authority citation for part 33 continues to read as follows:

Authority: 49 U.S.C. 106(g), 40113, 44701-44702, 44704.

2. In § 33.5, add paragraph (c) to read as follows:

§ 33.5 Instruction manual for installing and operating the engine.

* * * * *

(c) Safety analysis assumptions. The assumptions of the safety analysis as described in § 33.75(d) with respect to the reliability of safety devices, instrumentation, early warning devices, maintenance checks, and similar equipment or procedures that are outside the control of the engine manufacturer.

3. Revise § 33.74 to read as follows:

§ 33.74 Continued rotation.

If any of the engine main rotating systems continue to rotate after the engine is shutdown for any reason while in flight, and if means to prevent that continued rotation are not provided, then any continued rotation during the maximum period of flight, and in the flight conditions expected to occur with that engine inoperative, must not result in any condition described in § 33.75(g)(2)(i) through (vi) of this part.

4. Revise § 33.75 to read as follows:

§ 33.75 Safety analysis.

(a)(1) The applicant must analyze the engine, including the control system, to assess the likely consequences of all failures that can reasonably be expected to occur. This analysis will take into account, if applicable:

(i) Aircraft-level devices and procedures assumed to be associated with a typical installation. Such assumptions must be stated in the analysis.

(ii) Consequential secondary failures and latent failures.

(iii) Multiple failures referred to in paragraph (d) of this section or that result in the hazardous engine effects defined in paragraph (g)(2) of this section.

(2) The applicant must summarize those failures that could result in major engine effects or hazardous engine effects, as defined in paragraph (g) of this section, and estimate the probability of occurrence of those effects.

(3) The applicant must show that hazardous engine effects are predicted to occur at a rate not in excess of that defined as extremely remote (probability range of 10⁻⁷ to 10⁻⁹ per engine flight hour). Since the estimated probability for individual failures may be insufficiently precise to enable the applicant to assess the total rate for hazardous engine effects, compliance may be shown by demonstrating that the probability of a hazardous engine effect arising from an individual failure can be predicted to be not greater than 10⁻⁸ per engine flight hour. In dealing with probabilities of this low order of magnitude, absolute proof is not possible, and compliance may be shown by reliance on engineering judgment and previous experience combined with sound design and test philosophies.

(4) The applicant must show that major engine effects are predicted to occur at a rate not in excess of that defined as remote (probability range of 10⁻⁵ to 10⁻⁷ per engine flight hour).

(b) If significant doubt exists, the FAA may require that any assumption as to the effects of failures and likely combination of failures be verified by test.

(c) The primary failure of certain single elements cannot be sensibly estimated in numerical terms. If the failure of such elements is likely to result in hazardous engine effects, then compliance may be shown by reliance on the prescribed integrity requirements of this part. These instances must be stated in the safety analysis.

(d) If reliance is placed on a safety system to prevent a failure from progressing to hazardous engine effects, the possibility of a safety system failure in combination with a basic engine failure must be included in the analysis. Such a safety system may include safety devices, instrumentation, early warning devices, maintenance checks, and other similar equipment or procedures. If items of a safety system are outside the control of the engine manufacturer, the assumptions of the safety analysis with respect to the reliability of these parts must be clearly stated in the analysis and identified in the installation instructions under § 33.5 of this part.

(e) If the safety analysis depends on one or more of the following items, those items must be identified in the analysis and appropriately substantiated.

(1) Maintenance actions being carried out at stated intervals. This includes the verification of the serviceability of items that could fail in a latent manner. When necessary to prevent hazardous engine effects, these maintenance actions and intervals must be published in the instructions for continued airworthiness required under § 33.4 of this part. Additionally, if errors in maintenance of the engine, including the control system, could lead to hazardous engine effects, the appropriate procedures must be included in the relevant engine manuals.

(2) Verification of the satisfactory functioning of safety or other devices at pre-flight or other stated periods. The details of this satisfactory functioning must be published in the appropriate manual.

(3) The provisions of specific instrumentation not otherwise required.

(f) If applicable, the safety analysis must also include, but not be limited to, investigation of the following:

(1) Indicating equipment;

(2) Manual and automatic controls;

(3) Compressor bleed systems;

(4) Refrigerant injection systems;

(5) Gas temperature control systems;

(6) Engine speed, power, or thrust governors and fuel control systems;

(7) Engine overspeed, overtemperature, or topping limiters;

(8) Propeller control systems; and

(9) Engine or propeller thrust reversal systems.

(g) Unless otherwise approved by the FAA and stated in the safety analysis, for compliance with part 33, the following failure definitions apply to the engine:

(1) An engine failure in which the only consequence is partial or complete loss of thrust or power (and associated engine services) from the engine will be regarded as a minor engine effect.

(2) The following effects will be regarded as hazardous engine effects:

(i) Non-containment of high-energy debris;

(ii) Concentration of toxic products in the engine bleed air intended for the cabin sufficient to incapacitate crew or passengers;

(iii) Significant thrust in the opposite direction to that commanded by the pilot;

(iv) Uncontrolled fire;

(v) Failure of the engine mount system leading to inadvertent engine separation;

(vi) Release of the propeller by the engine, if applicable; and

(vii) Complete inability to shut the engine down.

(3) An effect whose severity falls between those effects covered in paragraphs (g)(1) and (g)(2) of this section will be regarded as a major engine effect.

5. Amend § 33.76 to revise paragraph (b)(3) to read as follows:

§ 33.76 Bird ingestion.

* * * * *

(b) * * *

(3) Ingestion of a single large bird tested under the conditions prescribed in this section must not result in any condition described in § 33.75(g)(2) of this part.

* * * * *

Issued in Washington, DC, on July 13, 2006.
John J. Hickey,
Director, Aircraft Certification Service.

[FR Doc. E6-11372 Filed 7-17-06; 8:45 am]

BILLING CODE 4910-13-P